DEPARTMENT OF THE INTERIOR

Bureau of Land Management

[LLAK927000 L54200000 FR0000 LVDIL110470; AA-92408]

Notice of Application for a Recordable Disclaimer of Interest for Lands Underlying the Kisaralik River System, Alaska

AGENCY: Bureau of Land Management, Interior.

ACTION: Notice.

SUMMARY: The State of Alaska has filed an application with the Bureau of Land Management (BLM) for a Recordable Disclaimer of Interest from the United States in those lands underlying the Kisaralik River System (including Kisaralik Lake) in western Alaska. The State asserts that the Kisaralik River System was navigable and unreserved at the time of statehood; therefore, title to the submerged lands passed to the State at the time of statehood (1959). This river system is within the exterior boundaries of the Yukon Delta National Wildlife Refuge, created by the Alaska National Interest Lands Conservation Act of 1980, and administered by the U.S. Fish and Wildlife Service.

DATES: All comments to this action should be received on or before January 7, 2013.

ADDRESSES: Comments on the State of Alaska's application or the BLM Draft Summary Report must be filed with the BLM Chief, Branch of Survey Planning and Preparation (AK-9270), Division of Cadastral Survey. You may submit comments by any of the following methods:

• Email: cfrichtl@blm.gov;

• Fax: 907-271-4193; or

• Mail: 222 W. 7th Avenue, #13, Anchorage, AK 99513-7504

FOR FURTHER INFORMATION CONTACT: Angie Nichols, Program Manager, telephone: 907-271-3359; address: 222 W. 7th Avenue, #13, Anchorage, AK 99513-7504; Email: anichols@blm.gov; or visit the BLM Recordable Disclaimer of Interest Web site at http://www.blm.gov/ak/st/en/prog/rdi.html. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: On November 30, 2010, the State of Alaska filed an application for a Recordable Disclaimer of Interest pursuant to Section 315 of the Federal Lands Policy and Management Act of 1976 and the regulations contained in 43 CFR subpart 1864 for the lands underlying the Kisaralik River (AA-92408). A Recordable Disclaimer of Interest, if issued, will confirm that the United States has no valid interest in the subject lands. The notice is intended to notify the public of the pending application and the State's grounds for supporting it. The State asserts that this river system was navigable and unreserved at the time of statehood; therefore, under the Equal Footing Doctrine, the Submerged Lands Act of 1953, the Alaska Statehood Act, the Alaska Right of Way Act of 1898, and other title navigability law, ownership of these lands underlying the river automatically passed from the United States to the State at the time of statehood in 1959.

The State's application, AA-92408, is for “submerged lands and bed up to and including the ordinary high water line of Kisaralik Lake within Township 3 North, Range 58 West, Seward Meridian and for the submerged lands and bed of the Kisaralik River lying between the ordinary high water lines of the right and left banks of that river from the outlet of Kisaralik Lake within Township 3 North, Range 58 West, Seward Meridian, Alaska, downstream to the location where the river enters the Kuskokuak Slough within Township 9 North, Range 67 West, Seward Meridian, Alaska. This includes the submerged lands and beds of all sloughs, braids, and channels that carry water from the navigable Kisaralik River and thus are part of the navigable river and all lands within the river system permanently or periodically covered by tidal waters up to the line of mean high tide.” The State identified the Kokarmiut Corporation, Calista Corporation, and the U.S. Fish and Wildlife Service as possible interested parties of the affected lands.

A final decision on the merits of the application will not be made before January 7, 2013. During the 90-day period, interested parties may comment on the State's application, AA-92408, and supporting evidence. The State's application and the BLM Draft Summary Report may be viewed on the BLM's Recordable Disclaimer of Interest Web site at http://www.blm.gov/ak/st/en/prog/rdi.html, or in the BLM Public Room located at 222 West 7th Avenue, #13, Anchorage, AK 99513-7504. Interested parties may also comment during this time on the BLM's Draft Summary Report by using one of the methods listed in the ADDRESSES section above.

Comments filed with the Division of Cadastral Survey, including names and street addresses of commenters, will be available for public inspection at the Alaska State Office (see ADDRESSES above), during regular business hours from 8 a.m. to 4 p.m., Monday through Friday, except holidays.

Before including your address, phone number, email address, or other personal identifying information in your comment, you should be aware that your entire comment—including your personal identifying information—may be made publicly available at any time. While you can ask us in your comment to withhold your personal identifying information from public review, we cannot guarantee that we will be able to do so.

If no valid objection is received, a Disclaimer of Interest may be approved, if all else is proper, stating that the United States does not have a valid interest in these lands.

Craig Frichtl,
Chief, Branch of Survey Planning and Preparation.

[FR Doc. 2012-24834 Filed 10-5-12; 8:45 am]

BILLING CODE 4310-JA-P